NATIONAL SCIENCE FOUNDATION

Proposal Review Panel for Materials Research; Notice of Meeting

In accordance with the Federal Advisory Committee Act (Pub. L. 92-463, as amended), the National Science Foundation announces the following meeting:

Name and Committee Code: University of Illinois at Urbana-Champaign MRSEC 2nd year Site Visit (1203).

Date and Time: Tuesday, May 21, 2019; 7:30 a.m.-3:45 p.m.

Place: University of Illinois (Urbana-Champaign), 1304 W Green St. Urbana, IL 61801.

Type of Meeting: Part-Open.

Contact Person: Dr. Daniele Finotello, Program Director, Division of Materials Research, National Science Foundation, 2415 Eisenhower Avenue, Room W 9216, Alexandria, VA 22314; Telephone: (703) 292-4432.

Purpose of Meeting: Site visit to provide an evaluation of the progress of the projects at the host site for the Division of Materials Research at the National Science Foundation.

Agenda

May 21, 2019:
07:30 a.m.-08:30 a.m | Breakfast—NSF PDs and Site Visit Team | OPEN.
08:30 a.m.-09:00 a.m | Transfer to Meeting Site, Introductions, Setup | OPEN.
09:00 a.m.-09:45 a.m | Directors Overview | OPEN.
09:45 a.m.-10:00 a.m | Discussion | OPEN.
10:00 a.m.-10:25 a.m | IRG-1 Presentation | OPEN.
10:25 a.m.-10:30 a.m | IRG-1 Discussion | OPEN.
10:30 a.m.-10:45 a.m | Break | OPEN.
10:45 a.m.-11:10 a.m | IRG-2 Presentation | OPEN.
11:10 a.m.-11:15 a.m | RG-2 Discussion | OPEN.
11:15 a.m.-11:40 a.m | Education and Outreach Presentation | OPEN.
11:40 a.m.-11:45 a.m | Education and Outreach Discussion | OPEN.
11:45 a.m.-12:10 p.m | NSF PDs and Site Visit Team | CLOSED.
12:10 p.m.-01:10 p.m | LUNCH
01:15 p.m.-02:15 p.m | Poster Session | OPEN.
02:15 p.m.-02:30 p.m | Panel & NSF Meet MRSEC Director/Exec. Com | OPEN.
02:30 p.m.-03:15 p.m | NSF PDs and Site Visit Team (Closed) | CLOSED.
03:15 p.m.-03:45 p.m | Debriefing | OPEN.
03:45 p.m | Adjourn

Reason for Closing: The work being reviewed during closed portions of the site visit include information of a proprietary or confidential nature, including technical information; financial data, such as salaries and personal information concerning individuals associated with the project. These matters are exempt under 5 U.S.C. 552b(c), (4) and (6) of the Government in the Sunshine Act.

Dated: February 6, 2019.
Crystal Robinson,
Committee Management Officer.

[FR Doc. 2019-01870 Filed 2-8-19; 8:45 am]

BILLING CODE 7555-01-P